DEPARTMENT OF COMMERCE

National Oceanic and Atmospheric Administration

RIN 0648-XC262

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene its Law Enforcement Advisory Panel in conjunction with the Gulf States Marine Fisheries Commission's Law Enforcement Committee.

DATES: The meeting will be held from 8:30 a.m. until 12 noon on Wednesday, October 17, 2012.

ADDRESSES: The meeting will be held at the Grand Hotel Marriott Resort, One Grand Boulevard, Point Clear, AL 36564; telephone: (251) 928-9201.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council (Council) will convene the Law Enforcement Advisory Panel (LEAP) along with the Gulf States Marine Fisheries Commission's Law Enforcement Committee (LEC). The LEAP/LEC will review the Council's Action Schedule and the status of regulatory actions that have been submitted to NMFS for implementation. The LEAP/LEC will also consider changes to recommendations for the timing of Federal Fishery Closures, and potential impacts of Exempted Fishing Permits being issued during closed seasons, such as for fishing tournaments. Finally, the LEAP/LEC will also consider approval of recently completed Strategic and Operations Plans, and review the state's Joint Enforcement Agreements.

The Law Enforcement Advisory Panel consists of principal law enforcement officers in each of the Gulf States, as well as the National Oceanic and Atmospheric Administration (NOAA) Law Enforcement, U.S. Fish and Wildlife Service (FWS), the U.S. Coast Guard, and the NOAA General Counsel for Law Enforcement. A copy of the agenda and related materials can be obtained by calling the Council office at (813) 348-1630.

Although other non-emergency issues not on the agendas may come before the Law Enforcement Advisory Panel for discussion, in accordance with the Magnuson-Stevens Fishery Conservation and Management Act (Magnuson-Stevens Act), those issues may not be the subject of formal action during this meeting. Actions of the Law Enforcement Advisory Panel will be restricted to those issues specifically identified in the agendas and any issues arising after publication of this notice that require emergency action under Section 305(c) of the Magnuson-Stevens Act, provided the public has been notified of the Council's intent to take action to address the emergency.

Special Accommodations

The meeting is physically accessible to people with disabilities. Requests for sign language interpretation or other auxiliary aids should be directed to Kathy Pereira at the Council office (see ADDRESSES) 5 working days prior to the meeting.

Dated: September 25, 2012.
Tracey L. Thompson,
Acting Deputy Director, Office of Sustainable Fisheries, National Marine Fisheries Service.

[FR Doc. 2012-23958 Filed 9-28-12; 8:45 am]

BILLING CODE 3510-22-P